SECURITIES AND EXCHANGE COMMISSION

Submission for OMB Review; Comment Request

Upon Written Request, Copies Available From: Securities and Exchange Commission, Office of Investor Education and Advocacy, Washington, DC 20549-0213.

Extension:

“Investor Form” SEC File No. 270-485; OMB Control No. 3235-0547.

Notice is hereby given that, pursuant to the Paperwork Reduction Act of 1995 (44 U.S.C. 3501 et seq.), the Securities and Exchange Commission (“SEC”) has submitted to the Office of Management and Budget a request to approve the collection of information discussed below.

Investors who submit complaints, ask questions, or provide tips to the SEC do so voluntarily. To make it easier for the public to contact the agency electronically, the SEC created a series of investor complaint and question web forms. Investors can access these forms through the SEC Center for Complaints and Enforcement Tips at http://www.sec.gov/complaint.shtml. The SEC is now going to consolidate those forms into one form (the Investor Form) which will ask for the same information, but also provide several drop down options to choose from in order to categorize the investor's complaint, and possibly provide the investor with information about that issue. The investor will have the same opportunity to describe their complaint, and they will be free to submit it without their name or contact information.

Although the Investor Form provides a structured format for incoming investor correspondence, the SEC does not require that investors use any particular form or format when contacting the agency. To the contrary, investors may submit complaints, questions, and tips through a variety of other means, including telephone, letter, facsimile, or e-mail. Approximately 20,000 investors each year voluntarily choose to use the complaint and question forms.

Investors who choose not to use the Investor Form receive the same level of service as those who do. The dual purpose of the form is to make it easier for the public to contact the agency with complaints, questions, tips, or other feedback and to streamline the workflow of the SEC staff who handle those contacts.

The SEC has used—and will continue to use—the information that investors supply on the complaint and question forms, and the Investor Form to review and process the contact (which may, in turn, involve responding to questions, processing complaints, or, as appropriate, initiating enforcement investigations), to maintain a record of contacts, to track the volume of investor complaints, and to analyze trends.

As with the previous forms, the Investor Form will ask investors to provide information concerning, among other things, their names, how they can be reached, the names of the individuals or entities involved, the nature of their complaint or tip, what documents they can provide, and what, if any, actions they have taken.

Use of the Investor Form is strictly voluntary. Moreover, the SEC does not require investors to submit complaints, questions, tips, or other feedback. Absent the forms, the public still has several ways to contact the agency, including telephone, facsimile, letters, and e-mail. Nevertheless, the SEC created these forms to make it easier for the public to contact the agency with complaints, questions, or tips. The forms further streamline the workflow of SEC staff who record, process, and respond to investor contacts.

The staff of the SEC estimates that the total reporting burden for using the complaint and question forms is 5,000 hours. The calculation of this estimate depends on the number of investors who use the forms each year and the estimated time it takes to complete the forms: 20,000 respondents × 15 minutes = 5,000 burden hours.

Members of the public should be aware that an agency may not conduct or sponsor, and a person is not required to respond to, a collection of information unless a currently valid Office of Management and Budget control number is displayed.

General comments regarding the above information should be directed to the following persons: (i) Desk Officer for the Securities and Exchange Commission, Office of Information and Regulatory Affairs, Office of Management and Budget, Room 10102, New Executive Office Building, Washington, DC 20503 or send an e-mail to Alexander_T._Hunt@omb.eop.gov; and (ii) Lewis W. Walker, Acting Director and Chief Information Officer, Securities and Exchange Commission, c/o Shirley Martinson, 6432 General Green Way, Alexandria, VA 22312, or send an e-mail to PRA_mailbox@sec.gov. Comments must be submitted to OMB within 30 days of this notice.

Dated: July 2, 2008.
Florence E. Harmon,
Acting Secretary.

[FR Doc. E8-15640 Filed 7-9-08; 8:45 am]

BILLING CODE 8010-01-P